DEPARTMENT OF VETERANS AFFAIRS

[OMB Control No. 2900-0091]

Agency Information Collection Activity: (Application and Renewal for Health Benefits and Request for Hardship Determination)

AGENCY: Veterans Health Administration, Department of Veterans Affairs.

ACTION: Notice.

SUMMARY: The Veterans Health Administration (VHA) is announcing an opportunity for public comment on the proposed collection of certain information by the agency. Under the Paperwork Reduction Act (PRA) of 1995, Federal agencies are required to publish notice in the Federal Register concerning each proposed collection of information, including each proposed revision of a currently approved collection, and allow 60 days for public comment in response to the notice. This notice solicits comments on information needed to identify areas for improvement in clinical training programs.

DATES: Written comments and recommendations on the proposed collection of information should be received on or before April 3, 2017.

ADDRESSES: Submit written comments on the collection of information through the Federal Docket Management System (FDMS) at www.Regulations.gov; or to Brian McCarthy, Office of Regulatory and Administrative Affairs, Veterans Health Administration (10B4), Department of Veterans Affairs, 810 Vermont Avenue NW., Washington, DC 20420 or email: Brian.McCarthy4@va.gov. Please refer to “OMB Control No. 2900-0091” in any correspondence. During the comment period, comments may be viewed online through FDMS.

FOR FURTHER INFORMATION CONTACT: Brian McCarthy at (202) 461-6345.

SUPPLEMENTARY INFORMATION: Under the PRA of 1995 (Pub. L. 104-13; 44 U.S.C. 3501-3521), Federal agencies must obtain approval from OMB for each collection of information they conduct or sponsor. This request for comment is being made pursuant to Section 3506(c)(2)(A) of the PRA.

With respect to the following collection of information, VHA invites comments on:

(1) Whether the proposed collection of information is necessary for the proper performance of VHA's functions, including whether the information will have practical utility; (2) the accuracy of VHA's estimate of the burden of the proposed collection of information; (3) ways to enhance the quality, utility, and clarity of the information to be collected; and (4) ways to minimize the burden of the collection of information on respondents, including through the use of automated collection techniques or the use of other forms of information technology.

Titles:

1. Enrollment Application for VA Health Care—VA Form 10-10EZ.

2. Application for Renewal of Health Care Benefits—VA Form 10-10EZR.

3. Request for Hardship Determination—VA Form 10-10HS.

OMB Control Number: 2900-0091.

Type of Review: Revision of a currently approved collection.

Abstracts:

a. VA Form 10-10EZ collects information only from new applicants for VA medical care, nursing home, domiciliary, dental benefits, and new enrollees in the VA health care system.

b. VA Form 10-10EZR, Health Benefits Renewal Form, is used to collect data from those veterans who wish to update their application data.

c. VA Form 10-10HS collects information only from veterans who are in a copay required status for hospital care and medical services, but due to a loss of income project their income for the current year will be substantially below the VA means test limits.

Affected Public: Individuals or households.

Estimated Annual Burden:

a. Enrollment Application for VA Health Care—VA Form 10-10EZ—270,000 hours.

b. Application for Renewal of Health Care Benefits—VA Form 10-10EZR—343,600 hours.

c. Request for Hardship Determination—VA Form 10-10HS—1,750 hours.

Estimated Average Burden per Respondent:

a. Enrollment Application for VA Health Care—VA Form 10-10EZ—30 minutes.

b. Application for Renewal of Health Care Benefits—VA Form 10-10EZR—24 minutes.

c. Request for Hardship Determination—VA Form 10-10HS—15 minutes.

Frequency of Response: Annually.

Estimated Annual Responses:

a. Enrollment Application for VA Health Care—VA Form 10-10EZ—540,000.

b. Application for Renewal of Health Care Benefits—VA Form 10-10EZR—859,000.

c. Request for Hardship Determination—VA Form 10-10HS—7,000.

By direction of the Secretary.
Cynthia Harvey-Pryor,
Agency Clearance Officer, Office of Privacy and Records Management, Department of Veterans Affairs.

[FR Doc. 2017-02138 Filed 1-31-17; 8:45 am]

BILLING CODE 8320-01-P